DEPARTMENT OF THE INTERIOR

National Park Service

Notice of Inventory Completion: U.S. Department of the Interior, National Park Service, San Juan Island National Historical Park, Friday Harbor, WA and Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the possession of the Thomas Burke Memorial Washington State Museum (Burke Museum), University of Washington, Seattle, WA, and in the control of the U.S. Department of the Interior, National Park Service, San Juan Island National Historical Park, Friday Harbor, WA. The human remains and associated funerary objects were removed from four prehistoric archeological sites within the boundaries of San Juan Island National Historical Park, San Juan County, WA.

This notice is published as part of the National Park Service's administrative responsibilities under NAGPRA, 25 U.S.C. 3003 (d)(3). The determinations in this notice are the sole responsibility of the superintendent, San Juan Island National Historical Park.

A detailed assessment of the human remains and associated funerary objects was made by Burke Museum and San Juan Island National Historical Park professional staff in consultation with representatives of the Lummi Tribe of the Lummi Reservation, Washington; Samish Indian Tribe, Washington; and Swinomish Indians of the Swinomish Reservation, Washington.

In 1946 and 1947, human remains representing a minimum of four individuals were removed from the Cattle Point Site (45-SJ-01) on San Juan Island in San Juan County, WA, during legally authorized excavations by University of Washington archeologist Arden King. Cattle Point is within the American Camp portion of San Juan Island National Historical Park on the southern part of San Juan Island. The human remains and associated funerary objects were transferred to the Burke Museum and accessioned by the National Park Service. No known individuals were identified. The two associated funerary objects are mammal bone fragments.

In 1950, human remains representing a minimum of two individuals were removed from the Guss Island Site (45-SJ-21) in San Juan County, WA, during legally authorized excavations as a part of University of Washington Field Project led by Adan Treganza. The human remains were transferred to the Burke Museum and accessioned by the National Park Service. No known individuals were identified. No associated funerary objects are present.

In 1983, human remains representing a minimum of one individual were removed from the Guss Island Site (45-SJ-21) in San Juan County, WA, during legally authorized excavations by University of Washington Professor Julie Stein. The human remains and associated funerary objects were transferred to the Burke Museum and accessioned by the National Park Service. Guss Island is a small island in Garrison Bay and is within the English Camp portion of San Juan Island National Historical Park on the northwestern part of San Juan Island. No known individual was identified. The nine associated funerary objects are one deer vertebra fragment, one deer tibia, one bird coracoid bone, one bird humerus, two fish bones, and three pieces of fire modified rock.

In 1950, human remains representing a minimum of seven individuals were removed from the English Camp Site (45-SJ-24) in San Juan County, WA, during a University of Washington summer field school directed by Professor Adan Treganza of San Francisco State University. The human remains and associated funerary objects were transferred to the Burke Museum and accessioned by the National Park Service. No known individuals were identified. The 33 associated funerary objects are 1 broken chipped stone projectile point and 32 non-human bone fragments.

In 1970, 1971, and 1972, human remains representing a minimum of eight individuals were removed from the English Camp Site in San Juan County, WA, during University of Idaho field schools directed by Dr. Roderick Sprague. The human remains and associated funerary objects were transferred to the Burke Museum and accessioned by the National Park Service. No known individuals were identified. The 61 associated funerary objects are 1 splinter awl made from deer bone, 1 tip of an antler tine, 1 square nail fragment, 1 wood fragment, 1 Horse Clam shell fragment, 6 basalt flakes, and 50 non-human skeletal fragments and non-human teeth.

In 1984, 1988, and 1990, human remains representing a minimum of five individuals were removed from the English Camp Site in San Juan County, WA, during legally authorized excavations by Professor Julie Stein of the University of Washington. The human remains and associated funerary objects were transferred to the Burke Museum and accessioned by the National Park Service. No known individuals were identified. The 27 associated funerary objects are non-human bone fragments.

In 1951, human remains representing a minimum of seven individuals were removed from the North Garrison Bay Site (45-SJ-25) in San Juan County, WA, during a summer field school in archeology under the direction of Professor Carroll Burroughs of the University of Washington. The North Garrison Bay Site is a prehistoric village site north of both the Guss Island Site and English Camp Site referred to previously. The fragmentary human remains were transferred to the Burke Museum and accessioned by the National Park Service. No known individuals were identified. The eight associated funerary objects are one shell fragment, one fused non-human radius and ulna, one deer ulna, one carnivore mandible fragment, one non-human rib fragment, and three lots of organic matter.

Based upon non-destructive osteological analysis, archeological data, geographic context and accession data, the 34 individuals from the four San Juan Island sites are of Native American ancestry. Arden King's analysis of archeological data from Cattle Point resulted in the identification of three prehistoric phases, with the most recent representing a maritime adaptation that is ancestral to historic native populations in the United States and Canada. Archeological research and analysis indicates continuous habitation of San Juan Island, including the four sites mentioned here, from approximately 2,000 years ago through the mid-19th century. Anthropologist Wayne Suttles has identified the occupants of San Juan Island as Northern Straits language-speaking people, a linguistic subset of a larger Central Coast Salish population, who were ancestors of the Lummi Tribe of the Lummi Reservation, Washington. Furthermore, Suttles' anthropological research in the late 1940s confirmed that the Lummi primarily occupied San Juan Island and other nearby islands in the contact period and during the early history of the Lummi Reservation that was established on the mainland in 1855 through Article II of the Treaty of Point Elliott. San Juan Island is within the aboriginal territory of the Lummi Tribe of the Lummi Reservation, Washington. Lummi oral tradition, history and anthropological data clearly associate the Lummi with San Juan Island.

The Samish Indian Tribe, Washington is closely associated with the Lummi Tribe of the Lummi Reservation, Washington linguistically and culturally, and the Samish regard San Juan Island to be within the usual and accustomed territory shared by both tribes at the time of the Point Elliott Treaty negotiations in 1855. In 2006, the Samish Indian Tribe, Washington and the Lummi Tribe of the Lummi Reservation, Washington entered into a cooperative agreement to have the Lummi Tribe of the Lummi Reservation, Washington take the lead in receiving repatriated human remains and funerary objects from San Juan Island National Historical Park. The traditional territory of the Swinomish Indians of the Swinomish Reservation, Washington is on the mainland in the vicinity of La Conner, WA, on Whidbey Island and Fidalgo Island, the site of their reservation.

Officials of San Juan Island National Historical Park have determined that, pursuant to 25 U.S.C. 3001 (9-10), the human remains described above represent the physical remains of 34 individuals of Native American ancestry. Officials of San Juan Island National Historical Park also have determined that, pursuant to 25 U.S.C. 3001 (3)(A), the 140 associated funerary objects are reasonably believed to have been placed with or near individual human remains at the time of death or later as part of the death rite or ceremony. Lastly, officials of San Juan Island National Historical Park have determined that, pursuant to 25 U.S.C. 3001 (2), there is a relationship of shared group identity that can be reasonably traced between the Native American human remains and associated funerary objects and the Lummi Tribe of the Lummi Reservation, Washington.

Representatives of any other Indian tribe that believes itself to be culturally affiliated with the human remains and associated funerary objects should contact Peter Dederich, superintendent, San Juan Island National Historical Park, P.O. Box 429, Friday Harbor, WA 98250-04289, telephone (360) 378-2240, before August 18, 2008. Repatriation of the human remains and associated funerary objects to the Lummi Tribe of the Lummi Reservation, Washington may proceed after that date if no additional claimants come forward.

San Juan Island National Historical Park is responsible for notifying the Lummi Tribe of the Lummi Reservation, Washington; Samish Indian Tribe, Washington; and Swinomish Indians of the Swinomish Reservation, Washington that this notice has been published.

Dated: June 10, 2008
Sherry Hutt,
Manager, National NAGPRA Program.

[FR Doc. E8-16482 Filed 7-17-08; 8:45 am]

BILLING CODE 4312-50-S